DEPARTMENT OF ENERGY

Federal Energy Regulatory Commission

Combined Notice of Filings #1

Take notice that the Commission received the following exempt wholesale generator filings:

Docket Numbers: EG19-191-000.

Applicants: Tenaska Clear Creek Wind, LLC.

Description: Notice of Self-Certification of Exempt Wholesale Generator Status.

Filed Date: 9/30/19.

Accession Number: 20190930-5171.

Comments Due: 5 p.m. ET 10/21/19.

Take notice that the Commission received the following electric rate filings:

Docket Numbers: ER12-162-024; ER13-1266-025; ER11-2044-029; ER15-2211-022.

Applicants: Bishop Hill Energy II LLC, CalEnergy, LLC, MidAmerican Energy Company, MidAmerican Energy Services, LLC.

Description: Notice of Non-Material Change in Status of the Berkshire Hathaway Central Parties, et al.

Filed Date: 9/30/19.

Accession Number: 20190930-5209.

Comments Due: 5 p.m. ET 10/21/19.

Docket Numbers: ER19-2909-000.

Applicants: Basin Electric Power Cooperative.

Description: Baseline eTariff Filing: Basin Electric Submission of Rate Schedule A to be effective 12/31/9998.

Filed Date: 9/30/19.

Accession Number: 20190930-5179.

Comments Due: 5 p.m. ET 10/21/19.

Docket Numbers: ER19-2910-000.

Applicants: Basin Electric Power Cooperative.

Description: Baseline eTariff Filing: Basin Electric Submission of Transmission-Related Agreements to be effective 12/31/9998.

Filed Date: 9/30/19.

Accession Number: 20190930-5187.

Comments Due: 5 p.m. ET 10/21/19.

Docket Numbers: ER19-2911-000.

Applicants: Basin Electric Power Cooperative.

Description: Baseline eTariff Filing: Basin Electric Submission of Open Access Transmission Tariff and ATRR to be effective 12/31/9998.

Filed Date: 9/30/19.

Accession Number: 20190930-5188.

Comments Due: 5 p.m. ET 10/21/19.

Docket Numbers: ER19-2912-000.

Applicants: Arizona Public Service Company.

Description: § 205(d) Rate Filing: Rate Schedule Nos. 295, 296 & 297 to be effective 12/1/2019.

Filed Date: 9/30/19.

Accession Number: 20190930-5189.

Comments Due: 5 p.m. ET 10/21/19.

Docket Numbers: ER19-2913-000.

Applicants: Midcontinent Independent System Operator, Inc.

Description: § 205(d) Rate Filing: 2019-09-30_Default Technology Specific Avoidable Costs Filing to be effective 11/30/2019.

Filed Date: 9/30/19.

Accession Number: 20190930-5190.

Comments Due: 5 p.m. ET 10/21/19.

Docket Numbers: ER19-2914-000.

Applicants: Puget Sound Energy, Inc.

Description: § 205(d) Rate Filing: NITSA, NOA, IA Between Air Products & PSE to be effective 9/1/2019.

Filed Date: 9/30/19.

Accession Number: 20190930-5195.

Comments Due: 5 p.m. ET 10/21/19.

Docket Numbers: ER19-2915-000.

Applicants: PJM Interconnection, L.L.C.

Description: § 205(d) Rate Filing: Revisions to Operating Agreement, Schedule 6, sec 1.5 re: Cost Commitment to be effective 1/1/2020.

Filed Date: 9/30/19.

Accession Number: 20190930-5196.

Comments Due: 5 p.m. ET 10/21/19.

Docket Numbers: ER19-2916-000.

Applicants: Calpine Mid-Merit II, LLC.

Description: § 205(d) Rate Filing: Reactive Power Rate Schedule to be effective 11/1/2019.

Filed Date: 9/30/19.

Accession Number: 20190930-5197.

Comments Due: 5 p.m. ET 10/21/19.

Docket Numbers: ER19-2917-000.

Applicants: Basin Electric Power Cooperative, Inc.

Description: Request for Waivers and Extensions of Filing Deadlines of Basin Electric Power Cooperative.

Filed Date: 9/30/19.

Accession Number: 20190930-5205.

Comments Due: 5 p.m. ET 10/21/19.

Docket Numbers: ER20-1-000.

Applicants: Basin Electric Power Cooperative.

Description: Baseline eTariff Filing: Basin Electric Application for MBR Authority and Request for Expedited Action to be effective 12/31/9998.

Filed Date: 10/1/19.

Accession Number: 20191001-5002.

Comments Due: 5 p.m. ET 10/22/19.

Docket Numbers: ER20-2-000.

Applicants: Basin Electric Power Cooperative.

Description: Initial rate filing: Basin Electric Submission of Wholesale Power Contract FERC Rate Schedules 1-19 to be effective 12/31/9998.

Filed Date: 10/1/19.

Accession Number: 20191001-5003.

Comments Due: 5 p.m. ET 10/22/19.

Docket Numbers: ER20-3-000.

Applicants: Midcontinent Independent System Operator, Inc., Michigan Electric Transmission Company.

Description: § 205(d) Rate Filing: 2019-10-1_Depreciation Rate Filing METC to be effective 12/1/2019.

Filed Date: 10/1/19.

Accession Number: 20191001-5011.

Comments Due: 5 p.m. ET 10/22/19.

Docket Numbers: ER20-4-000.

Applicants: Midcontinent Independent System Operator, Inc., International Transmission Company.

Description: § 205(d) Rate Filing: 2019-10-1_Depreciation Rate Filing ITCT to be effective 12/1/2019.

Filed Date: 10/1/19.

Accession Number: 20191001-5016.

Comments Due: 5 p.m. ET 10/22/19.

Docket Numbers: ER20-5-000.

Applicants: Midcontinent Independent System Operator, Inc., ITC Midwest LLC.

Description: § 205(d) Rate Filing: 2019-10-1_Depreciation Rate Filing ITCM to be effective 12/1/2019.

Filed Date: 10/1/19.

Accession Number: 20191001-5017.

Comments Due: 5 p.m. ET 10/22/19.

Docket Numbers: ER20-6-000.

Applicants: Alcoa Power Generating Inc.

Description: § 205(d) Rate Filing: Reactive Power Rate Schedule to be effective 12/1/2019.

Filed Date: 10/1/19.

Accession Number: 20191001-5020.

Comments Due: 5 p.m. ET 10/22/19.

Docket Numbers: ER20-7-000.

Applicants: Southwest Power Pool, Inc.

Description: § 205(d) Rate Filing: 2900R12 KMEA NITSA NOA to be effective 9/1/2019.

Filed Date: 10/1/19.

Accession Number: 20191001-5075.

Comments Due: 5 p.m. ET 10/22/19.

Docket Numbers: ER20-8-000.

Applicants: Southwest Power Pool, Inc.

Description: § 205(d) Rate Filing: 1313R12 Oklahoma Gas and Electric Company NITSA and NOA to be effective 9/1/2019.

Filed Date: 10/1/19.

Accession Number: 20191001-5109.

Comments Due: 5 p.m. ET 10/22/19.

Docket Numbers: ER20-9-000.

Applicants: New York Independent System Operator, Inc., Niagara Mohawk Power Corporation.

Description: § 205(d) Rate Filing: Joint LGIA filing among NYISO, NMPC and Cassadaga Wind SA 2475 to be effective 9/17/2019.

Filed Date: 10/1/19.

Accession Number: 20191001-5113.

Comments Due: 5 p.m. ET 10/22/19.

Docket Numbers: ER20-10-000.

Applicants: Arizona Public Service Company.

Description: § 205(d) Rate Filing: OATT Attachment Q—Unaccounted for Energy to be effective 12/1/2019.

Filed Date: 10/1/19.

Accession Number: 20191001-5120.

Comments Due: 5 p.m. ET 10/22/19.

Docket Numbers: ER20-11-000.

Applicants: Midcontinent Independent System Operator, Inc.

Description: § 205(d) Rate Filing: 2019-10-01_True-up Filing for Order 831 Energy Offer Cap to be effective 12/1/2019.

Filed Date: 10/1/19.

Accession Number: 20191001-5152.

Comments Due: 5 p.m. ET 10/22/19.

Docket Numbers: ER20-12-000.

Applicants: Southwest Power Pool, Inc.

Description: § 205(d) Rate Filing: 3125R7 Basin Electric Power Cooperative NITSA and NOA to be effective 9/1/2019.

Filed Date: 10/1/19.

Accession Number: 20191001-5158.

Comments Due: 5 p.m. ET 10/22/19.

Docket Numbers: ER20-13-000.

Applicants: Midcontinent Independent System Operator, Inc.

Description: § 205(d) Rate Filing: 2019-10-01_TO Attachment O's and ADIT Proration Filing to be effective 1/1/2019.

Filed Date: 10/1/19.

Accession Number: 20191001-5173.

Comments Due: 5 p.m. ET 10/22/19.

Docket Numbers: ER20-14-000.

Applicants: Alabama Power Company.

Description: § 205(d) Rate Filing: Sunflower Solar (Lucedale Solar Project) LGIA Filing to be effective 9/17/2019.

Filed Date: 10/1/19.

Accession Number: 20191001-5233.

Comments Due: 5 p.m. ET 10/22/19.

Docket Numbers: ER20-15-000.

Applicants: PJM Interconnection, L.L.C.

Description: § 205(d) Rate Filing: Amended ISA SA No. 5227; Queue No. AB2-158 to be effective 10/8/2018.

Filed Date: 10/1/19.

Accession Number: 20191001-5263.

Comments Due: 5 p.m. ET 10/22/19.

Take notice that the Commission received the following electric securities filings:

Docket Numbers: ES19-70-000.

Applicants: West Penn Power Company.

Description: Application under Section 204 of the Federal Power Act for Authorization to Issue Securities of West Penn Power Company.

Filed Date: 9/27/19.

Accession Number: 20190927-5194.

Comments Due: 5 p.m. ET 10/18/19.

Docket Numbers: ES19-71-000.

Applicants: Basin Electric Power Cooperative, Inc.

Description: Application under Section 204 of the Federal Power Act for Authorization to Issue Securities, et al. of Basin Electric Power Cooperative.

Filed Date: 9/30/19.

Accession Number: 20190930-5200.

Comments Due: 5 p.m. ET 10/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2019.
Kimberly D. Bose,
Secretary.

[FR Doc. 2019-21795 Filed 10-4-19; 8:45 am]

BILLING CODE 6717-01-P